DEPARTMENT OF THE INTERIOR

Bureau of Land Management

[LLNMF00000 L13110000.XH0000]

Notice of Public Meeting, Farmington District Resource Advisory Council Meeting, New Mexico

AGENCY: Bureau of Land Management, Interior.

ACTION: Notice of public meeting.

SUMMARY: In accordance with the Federal Land Policy and Management Act and the Federal Advisory Committee Act of 1972, the U.S. Department of the Interior, Bureau of Land Management (BLM), Farmington District Resource Advisory Council (RAC), will meet as indicated below.

DATES: The meeting dates are October 17-18, 2012, at the BLM Farmington District Office, 6251 College Blvd., Farmington, New Mexico 87402, from 8:00 a.m. to 4:30 p.m. both days. The public may send written comments to the RAC at the above address.

FOR FURTHER INFORMATION CONTACT: Bill Papich, BLM Farmington District Office, 6251 College Blvd., Farmington, NM 87402, telephone 505-564-7620. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of the Interior, through the BLM, on a variety of planning and management issues associated with public land management in New Mexico. Planned meeting agenda items include discussion of a planned wild horse gathering and a proposed amendment to the Farmington Field Office Resource Management Plan that would revise how the Farmington Field Office manages the BLM Glade Run Recreation.

Other items on the meeting agenda include discussion of the Taos Field Office transportation plan, an update on the proposed management plan for the Taos Plateau and discussion of the Old Spanish Trail.

A half-hour public comment period during which the public may address the RAC is scheduled to begin at 3:00 p.m. at Thursday's meeting on October 18. All RAC meetings are open to the public. Depending on the number of individuals wishing to comment and time available, the time for individual oral comments may be limited.

Dave Evans,
District Manager, Farmington.

[FR Doc. 2012-24484 Filed 10-3-12; 8:45 am]

BILLING CODE 4310-VB-P